DEPARTMENT OF ENERGY

[FE Docket No. 00-46-NG, et al.]

Office of Fossil Energy; Avista Corporation, etc.; Orders Granting Authority to Import and Export Natural Gas

AGENCY: Office of Fossil Energy, DOE.

ACTION: Notice of Orders.

SUMMARY: The Office of Fossil Energy (FE) of the Department of Energy gives notice that during July 2000, it issued Orders granting authority to import and export natural gas. These Orders are summarized in the attached appendix and may be found on the FE web site at http://www.fe.doe.gov, or on the electronic bulletin board at (202) 586-7853. They are also available for inspection and copying in the Office of Natural Gas & Petroleum Import & Export Activities, Docket Room 3E-033, Forrestal Building, 1000 Independence Avenue, S.W., Washington, D.C. 20585, (202) 586-9478. The docket room is open between the hours of 8:00 a.m. and 4:30 p.m., Monday through Friday, except Federal holidays.

Issued in Washington, D.C., on August 3, 2000.
John W. Glynn,
Manager, Natural Gas Regulation, Office of Natural Gas & Petroleum Import & Export Activities, Office of Fossil Energy.

Attachment

APPENDIX—Orders Granting Import/Export Authorizations

Order No. | Date issued | Importer/Exporter FE Docket No. | Import volume | Export volume | Comments
1608 | 07/03/00 | Avista Corporation—00-46-NG | 100 Bcf |  | Import from Canada, beginning on June 26, 2000, and extending through June 25, 2002.
1609 | 07/07/00 | Power City Partners, L.P.—00-47-NG | 500,000 Mcf |  | Import from Canada, beginning on July 1, 2000, and extending through June 30, 2002.
1610 | 07/13/00 | CCGM, L.P.—00-48-NG | 146 Bcf |  | Import and export a combined total from and to Canada, and import and export a combined total from and to Mexico, beginning on July 1, 2000, and extending through June 30, 2002.
1611 | 07/14/00 | Sacramento Municipal Utility District—00-49-NG | 25 Bcf |  | Import from Canada, over a two-year term beginning on the date of first delivery.
1612 | 07/17/00 | Union Gas Limited 00-44-NG | 216 Bcf |  | Import and export a combined total from and to Canada, beginning on August 15, 2000, and extending through August 14, 2002.
1613 | 07/20/00 | CoEnergy Trading Company—00-50-NG |  | 100 Bcf | Export to Canada, over a two-year term beginning on the date of first delivery.
1614 | 07/25/00 | Intalco Aluminum Corporation—00-52-NG | 2.3 Bcf |  | Import from Canada, beginning on September 29, 2000, and extending through September 28, 2002.
1615 | 07/25/00 | Xeno, Inc.—00-53-NG |  | 10.95 Bcf | Export to Canada, beginning on August 1, 2000, and extending through July 31, 2002.
1616 | 07/31/00 | Texaco Natural Gas Inc.—00-51-NG | 120 Bcf |  | Import from Canada, beginning on August 1, 2000, and extending through July 31, 2002.

[FR Doc. 00-20091 Filed 8-8-00; 8:45 am]

BILLING CODE 6450-01-P